DEPARTMENT OF TRANSPORTATION

Coast Guard

33 CFR Part 117

[CGD08-02-037]

Drawbridge Operation Regulations; Sabine River, Echo, Orange County, TX

AGENCY: Coast Guard, DOT.

ACTION: Notice of temporary deviation from regulations.

SUMMARY: The Commander, Eighth Coast Guard District, has issued a temporary deviation from the regulation governing the operation of the Union Pacific Railroad Swing Span Bridge across the Sabine River, mile 19.3, at Echo, Orange County, TX. This deviation allows the bridge to remain closed to navigation from December 3, 2002, through December 16, 2002. The deviation is necessary for bridge maintenance in order to continue safe operation of the swing span.

DATES: This deviation is effective from 7 a.m. on December 3, 2002, through 6 p.m. on December 16, 2002.

ADDRESSES: Materials referred to in this document are available for inspection or copying at the office of the Eighth Coast Guard District, Bridge Administration Branch, Hale Boggs Federal Building, room 1313, 501 Magazine Street, New Orleans, Louisiana 70130-3396 between 7 a.m. and 3 p.m., Monday through Friday, except Federal holidays. The Bridge Administration Branch of the Eighth Coast Guard District maintains the public docket for this temporary deviation.

FOR FURTHER INFORMATION CONTACT: Kay Wade, Bridge Administration Branch, telephone (504) 589-2965.

SUPPLEMENTARY INFORMATION: The Union Pacific Railroad has requested a temporary deviation in order to remove and replace the pivot casting and lenses that affect the opening and closing of the swing span bridge across the Sabine River at mile 19.3 near Echo, Orange County, Texas. This maintenance is essential in order to minimize the outage time for maintenance operations on the Union Pacific Railroad swing span bridge across the Calcasieu River at mile 36.4 near Lake Charles, Calcasieu Parish, Louisiana, where a trade of components will take place. The swing span pivot casting will be removed from the bridge at Echo for reconditioning and placement of new lenses on the bridge at Lake Charles. This temporary deviation will allow the bridge to remain in the closed-to-navigation position from 7 a.m. on Tuesday, December 3, 2002, through 6 p.m. on Monday, December 16, 2002.

The swing span bridge has a vertical clearance of 5.28 feet above 2 percent flow line, elevation 9.6 feet Mean Sea Level in the closed-to-navigation position. Navigation on the waterway consists of recreational boats only that launch from boat ramps upstream of the bridge. There is no commercial traffic at the bridge site. Recreational boat traffic is not a concern since recreational boating is minimal during the month of December and most recreational vessels can pass under the bridge while it is in the closed-to-navigation position. The bridge normally opens to pass navigation on an average of four times per year. In accordance with 33 CFR 117.493, the draw of the bridge opens on signal if at least 24 hours notice is given. The bridge will not be able to open for emergencies during the closure period. No alternate routes are available.

In accordance with 33 CFR 117.35(c), this work will be performed with all due speed in order to return the bridge to normal operation as soon as possible. This deviation from the operating regulations is authorized under 33 CFR 117.35.

Dated: November 15, 2002.
Marcus Redford,
Bridge Administrator.

[FR Doc. 02-29908 Filed 11-22-02; 8:45 am]

BILLING CODE 4910-15-P